FEDERAL COMMUNICATIONS COMMISSION

47 CFR Parts 1 and 64

[CG Docket No. 11-47; FCC 11-150]

Contributions to the Telecommunications Relay Services Fund

AGENCY: Federal Communications Commission.

ACTION: Final rule.

SUMMARY: In this document, the Federal Communications Commission (FCC or Commission) adopts rules to implement a provision of the Twenty-First Century Communications and Video Accessibility Act of 2010 (CVAA), which requires each provider of interconnected voice over Internet protocol (VoIP) service or non-interconnected VoIP service to begin participating in and contributing to the interstate Telecommunications Relay Services (TRS) Fund in a manner prescribed by regulation that is consistent with and comparable to the obligations of other TRS Fund contributors.

DATES: Effective November 25, 2011.

ADDRESSES: Federal Communications Commission, 445 12th Street, SW., Washington, DC 20554.

FOR FURTHER INFORMATION CONTACT: Rosaline Crawford, Consumer and Governmental Affairs Bureau, Disability Rights Office, at (202) 418-2075 or e-mail Rosaline.Crawford@fcc.gov. For additional information concerning the Paperwork Reduction Act (PRA) information collection requirements contained in document FCC 11-150, contact Cathy Williams, Federal Communications Commission, at (202) 418-2918 or e-mail Cathy.Williams@fcc.gov.

SUPPLEMENTARY INFORMATION: This is a summary of the Commission's Contributions to the Telecommunications Relay Service Fund, Report and Order (Order), document FCC 11-150, adopted October 7, 2011, released October 7, 2011, in CG Docket No. 11-47.

The full text of document FCC 11-150 and copies of any subsequently filed documents in this matter will be available for public inspection and copying via ECFS, and during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (800) 378-3160, fax: (202) 488-5563, or Internet: http://www.bcpiweb.com. Document FCC 11-150 can also be downloaded in Word or Portable Document Format (PDF) at http://www.fcc.gov/encyclopedia/twenty-first-century-communications-and-video-accessibility-act-0 and at http://transition.fcc.gov/cgb/dro/trs.html. To request materials in accessible formats for people with disabilities (Braille, large print, electronic files, audio format), send an e-mail to fcc504@fcc.gov or call the Consumer and Governmental Affairs Bureau at 202-418-0530 (voice) or 202-418-0432 (TTY).

Final Paperwork Reduction Act of 1995 Analysis

This document contains new and modified information collection requirements. The Commission, as part of its continuing effort to reduce paperwork burdens, invited the general public to comment on the information collection requirements contained in document FCC 11-150 as required by the Paperwork Reduction Act of 1995, Public Law 104-13. In addition, pursuant to the Small Business Paperwork Relief Act of 2002, Public Law 107-198, the Commission previously sought specific comment on how the Commission might “further reduce the information collection burden for small business concerns with fewer than 25 employees.” See 44 U.S.C. 3506(c)(4). In this present document, the Commission has assessed the effects of the rules for contributions to the TRS Fund and finds that the collection of information requirements will not have a significant impact on small business concerns with fewer than 25 employees. The Commission received pre-approval from OMB for the information collection requirements on May 23, 2011, and the information collection requirements were adopted as proposed. See OMB Control Number 3060-0855.

Congressional Review Act

The Commission will send a copy of document FCC 11-150 in a report to be sent to Congress and the Government Accountability Office pursuant to the Congressional Review Act. See 5 U.S.C. 801(a)(1)(A).

Synopsis

1. Document FCC 11-150 implements a provision of the CVAA, Public Law 111-260, 124 Stat. 2751 (2010). The CVAA added a new section 715, 47 U.S.C. 616, to the Communications Act of 1934, as amended (the Act), which requires each interconnected VoIP service provider and each provider of non-interconnected VoIP service to participate in and contribute to the TRS Fund. Section 715 of the Act also requires the Commission to adopt regulations to provide for obligations of such providers that are consistent with and comparable to the obligations of other contributors to the TRS Fund. Currently, providers of interstate and international telecommunications services and interconnected VoIP service contribute to the TRS Fund, but non-interconnected VoIP providers do not. In document FCC 11-150, the Commission affirms that TRS Fund contributions are assessed against interstate end-user revenues. Where interstate end-user revenues are generated from non-interconnected VoIP services offered with other (non-VoIP) services, the Commission directs that TRS contributions not be assessed against those revenues unless the providers of such services (1) also offer the non-interconnected VoIP service on a stand-alone basis for a fee; or (2) also offer the non-VoIP services without the non-interconnected VoIP services at a different (discounted) price. Document FCC 11-150 also affirms that only service providers with interstate end-user revenues must contribute a minimum of $25 to the TRS Fund. In addition, document FCC 11-150 addresses registration and reporting requirements, the methodology for calculating interstate end-user revenues by non-interconnected VoIP service providers, and the implementation deadlines for these providers.

Background

2. Section 225 to the Communications Act, 47 U.S.C. 225(b)(1), requires the Commission to ensure that TRS are available to enable persons with hearing or speech disabilities in the United States to make and receive calls. The Commission has recognized and permits compensation for various forms of TRS, including TTY-to-voice, speech-to-speech, captioned telephone relay service, and Internet-based forms of TRS, such as video relay service, Internet protocol (IP) relay, and IP captioned telephone relay service.

3. There are two components to the cost recovery framework for interstate TRS: (1) Collecting contributions which are put into the TRS Fund; and (2) compensating eligible TRS providers from the TRS Fund for the costs of providing eligible TRS services. Carriers and, since 2007, interconnected VoIP service providers contribute to the TRS Fund on the basis of interstate end-user telecommunications and interconnected VoIP revenues. The contribution amount is the product of the service provider's interstate end-user revenues and a contribution factor determined annually by the Commission. Contributors are required to register with the Commission, designate a District of Columbia agent for service of process, and file a completed Telecommunications Reporting Worksheet (FCC Form 499-A) by April 1 of each year to report their interstate end-user revenues.

4. Unlike providers of interconnected VoIP service, providers of “non-interconnected VoIP service” have not been required to contribute to the TRS Fund. Nor have non-interconnected VoIP service providers been required to register with the Commission, designate a District of Columbia agent for service of process, or report revenues through the annual filing of FCC Form 499-A for any purpose.

5. On March 3, 2011, the Commission released a Notice of Proposed Rulemaking seeking comment on proposals to implement section 715 of the Act's requirement for VoIP service providers to participate in and contribute to the TRS Fund. See Contributions to the Telecommunications Relay Services Fund, Notice of Proposed Rulemaking, published at 76 FR 18490, April 4, 2011 (TRS Contribution NPRM).

Definitions

6. As proposed in the TRS Contribution NPRM, the Commission amends the TRS rules to adopt the CVAA definition of “interconnected VoIP service,” 47 U.S.C. 153(25), as defined in § 9.3 of the Commission's rules, “as such section may be amended from time to time.” See 47 CFR 9.3 of the Commission's rules.

7. In addition, the Commission adds the definition of “non-interconnected VoIP service,” as set forth in the CVAA, 47 U.S.C. 153(36), to the TRS rules at 47 CFR 64.601(a). The CVAA defines “non-interconnected VoIP service” as a service that (1) enables real-time voice communications that originate from or terminate to the user's location using Internet protocol or any successor protocol; (2) requires Internet protocol compatible customer premises equipment; and (3) does not include any service that is an interconnected VoIP service.

Participation in and Contribution to the TRS Fund

8. Revenue Base. Currently, contributions to the TRS Fund from carriers and interconnected VoIP service providers are based on “interstate end-user telecommunications revenues.” 47 CFR 64.604(c)(5)(iii)(A) of the Commission's rules. To achieve consistency with the obligations of other providers that must contribute to the TRS Fund, the Commission will base all TRS Fund contributions of non-interconnected VoIP service providers only on their interstate end-user revenues at this time. The Commission will not require non-interconnected VoIP service providers who do not generate interstate end-user revenues (i.e., who offer their services for free) to contribute to the TRS Fund. The Commission reserves the right to re-visit ways to assess contributions based on revenue from alternate or additional sources from providers of these technologies (e.g., advertising) to support TRS in the future.

9. Specifically, the Commission requires providers that offer non-interconnected VoIP services on a stand-alone basis for a fee to contribute to the TRS Fund on the basis of their interstate end-user revenues generated from such services. The Commission also requires providers of non-interconnected VoIP services that are offered with other (non-VoIP) services that generate end-user revenues to allocate a portion of those end-user revenues to the non-interconnected VoIP service in two circumstances: (1) When those providers also offer the non-interconnected VoIP service on a stand-alone basis for a fee; or (2) when those providers also offer the other (non-VoIP) services without the non-interconnected VoIP service feature at a different (discounted) price. Such providers may use the safe harbor methods established in the CPE Bundling Order for allocating revenues, published at 66 FR 19398, April 6, 2001. The Commission also notes that nothing in document FCC 11-150 disturbs or calls into question the validity of apportioning assessable revenues from bundled services offerings for purposes of Universal Service Fund (USF) contributions, as currently allowed under the CPE Bundling Order.

10. For all other providers of non-interconnected VoIP service, the Commission finds good cause to waive their TRS Fund contribution obligations until further notice. In other words, the Commission waives the TRS Fund contribution requirements (registration, reporting, and payment of contributions) for providers of non-interconnected VoIP services other than (A) providers that offer non-interconnected VoIP services on a stand-alone basis for a fee; and (B) providers of non-interconnected VoIP services that are offered with other (non-VoIP) services that generate end-user revenues (1) when those providers also offer the non-interconnected VoIP service on a stand-alone basis for a fee, or (2) when those providers also offer the other (non-VoIP) services without the non-interconnected VoIP service feature at a different (discounted) price. As the Commission gains experience with the practices of providers of non-interconnected VoIP services, it may re-visit the continued need for this waiver and the extent to which it needs to revise its rules governing these assessments, to ensure consistent and comparable obligations among all TRS Fund contributors.

11. Minimum Contribution Requirement. The Commission's current rules do not require telecommunications or interconnected VoIP service providers that have no end-user revenues for a given reporting year to contribute the minimum $25 or a “de minimis” amount to the TRS Fund. Because the Commission finds that imposing a minimum contribution requirement for non-interconnected VoIP service providers with no end-user revenues would not be consistent with or comparable to the obligations of other contributors, as directed by the CVAA, it will not require a minimum contribution requirement for these providers.

12. Contributor Registration. The Commission requires non-interconnected VoIP service providers with interstate end-user revenues to register with the Commission and designate a District of Columbia agent for service of process. Registration with the Commission includes obtaining an FCC registration number (FRN) from the Commission registration system (CORES), in accordance with the FCC Form 499-A Instructions. The Commission further adopts this registration requirement as part of the TRS rules and also amends 47 CFR 1.47(h) of its rules to make these requirements applicable to non-interconnected VoIP service providers with interstate end-user revenues that are subject to contribution to the TRS Fund.

13. FCC Form 499-A. The Commission amends the TRS rules to require non-interconnected VoIP service providers to contribute to the TRS Fund and directs them to use FCC Form 499-A to report their interstate end-user revenues for purposes of TRS Fund contributions. The 2012 version of FCC Form 499-A has a new line 418.4 designated for reporting “non-interconnected VoIP revenues not included in any other category,” which shall be used for this purpose. The Commission also modifies TRS rule 47 CFR 64.604(c)(5)(iii)(A) of its rules by replacing the phrase “interstate end-user telecommunications revenues” with “interstate end-user revenues” and by deleting the last sentence. These changes will serve to distinguish non-interconnected VoIP service revenues from telecommunications revenues when these are reported on FCC Form 499-A.

14. Interstate Revenue Safe Harbor. Because some interconnected VoIP service providers may not have the ability to identify whether their calls are interstate, the Commission's rules permit an interconnected VoIP service provider to use actual revenues, a traffic study, or the interim safe harbor percentage of 64.9 (to estimate the interstate portion of total end-user revenues) for the purposes of reporting interstate end-user revenues on the FCC Form 499-A and making TRS Fund contributions. The Commission now concludes that it is also appropriate to permit non-interconnected VoIP service providers to report their interstate end-user revenues using actual revenues, a traffic study, or the interim 64.9 percent safe harbor.

15. Billed or Collected Revenue. The Commission concludes that, consistent with the manner in which USF assessable revenues are determined, the contribution base for TRS will be determined from gross billed revenues, minus uncollectible revenues/bad debt expenses. Revising calculations in this manner will achieve greater consistency in the administration of the USF and TRS Fund.

16. Conforming Amendments to Rules. The Commission replaces the terms “carrier,” “carriers,” and “service providers” in 47 CFR 64.604(c)(5)(iii)(B) of its rules with the term “contributor(s).” Similarly, the Commission replaces the terms “interstate end-user telecommunications revenues” and “interstate end-user revenues of such services” in 47 CFR 64.604(c)(5)(iii)(B) of its rules with the term “revenues subject to contributions.”

17. Implementation Deadlines. Section 715 of the Act requires the Commission to ensure that each provider of interconnected and non-interconnected VoIP service participates in and contributes to the TRS Fund within one year after the CVAA's enactment, i.e., by October 8, 2011. Interconnected VoIP service providers have already met this statutory requirement because they have been reporting revenues and contributing to the TRS Fund on an annual basis since 2007. The Commission adopts the following deadlines for non-interconnected VoIP service providers that have interstate end-user revenues that are subject to contribution to the TRS Fund:

• By December 31, 2011, non-interconnected VoIP service providers shall register with the Commission and designate a District of Columbia agent for service of process using FCC Form 499-A in accordance with the form's instructions.

• By April 1, 2012, non-interconnected VoIP service providers shall complete and submit FCC Form 499-A to report fourth-quarter 2011 interstate end-user revenues, which shall be the basis for TRS Fund contributions for the 2012-2013 funding period.

Final Regulatory Flexibility Certification

18. The Regulatory Flexibility Act of 1980, as amended (RFA), requires that a regulatory flexibility analysis be prepared for rulemaking proceedings, unless the agency certifies that “the rule will not, if promulgated, have a significant economic impact on a substantial number of small entities.” See 5 U.S.C. 603. The RFA generally defines the term “small entity” as having the same meaning as the terms “small business,” “small organization,” and “small governmental jurisdiction.” 5 U.S.C. 601(6). In addition, the term “small business” has the same meaning as the term “small business concern” under the Small Business Act. 5 U.S.C. 601(3). A “small business concern” is one that: (1) Is independently owned and operated; (2) is not dominant in its field of operation; and (3) satisfies any additional criteria established by the Small Business Administration (SBA). 15 U.S.C. 632.

19. The Commission adopts rules to require providers of non-interconnected VoIP service to contribute to the interstate TRS Fund. Non-interconnected VoIP services enable real-time voice communications that originate from or terminate to the user's location using Internet protocol or any successor protocol, requires Internet protocol compatible customer premises equipment, and does not include any service that is an interconnected VoIP service. 47 U.S.C. 153(36). TRS are services that enable individuals who are deaf, hard of hearing, deaf-blind, or who have a speech disability to make and receive calls. 47 U.S.C. 225(b)(1). There are two components to the cost recovery framework for interstate TRS: (1) Collecting contributions which are put into the interstate TRS Fund; and (2) compensating TRS providers from the TRS Fund for the costs of providing TRS services. Document FCC 11-150 addresses the first component—contributions to the interstate TRS Fund.

20. In summary, the rules adopted in document FCC 11-150 require providers of non-interconnected VoIP services that generate interstate end-user revenues to take the following actions: Register with the Commission; designate a District of Columbia agent for service of process; complete and submit a Telecommunications Reporting Worksheet (FCC Form 499-A) annually to report their interstate end-user revenues; and contribute approximately one percent of their interstate end-user revenues or a minimum $25 to the TRS Fund. As described more fully below, these actions will not have a significant economic impact on providers of non-interconnected VoIP services with interstate end-user revenues. Further, the rules adopted in document FCC 11-150 will have no economic impact on providers of free non-interconnected VoIP services, because those providers are not required to take any action.

21. In the TRS Contribution NPRM, published at 76 FR 18490, April 4, 2011, the Commission concluded that no Initial Regulatory Flexibility Analysis was required because, even if a substantial number of small entities might be affected by the proposed rules, the cumulative economic impact on any entity required to participate in and contribute to the TRS Fund will be de minimis. The Commission now certifies that the rules adopted in document FCC 11-150 will not have a significant economic impact on a substantial number of small entities.

22. The rules adopted in document FCC 11-150 implement section 103(b) of the CVAA, Public Law 111-260, section 103(b), 124 Stat. 2751, 2755 (2010). Section 103(b) of the CVAA adds section 715 to the Communications Act. 47 U.S.C. 616. Section 715 of the Act requires each provider of interconnected VoIP service provider or non-interconnected VoIP service to participate in and contribute to the interstate TRS Fund by October 8, 2011, in a manner that is consistent with and comparable to the obligations of other TRS Fund contributors. Carriers have been contributing to the TRS Fund since its inception. Providers of interconnected VoIP services have been contributing to the TRS Fund since 2007. The CVAA, in effect, affirms the contribution requirement for providers of interconnected VoIP services, and extends this contribution requirement to non-interconnected VoIP service providers.

23. Currently, all TRS Fund contributors must register with the Commission and designate a District of Columbia agent for service of process. Contributors file a completed FCC Form 499-A annually to report their interstate end-user revenues. Contributions to the TRS Fund are made on the basis of interstate end-user revenues. The amount of interstate end-user revenues reported on FCC Form 499-A is multiplied by a contribution factor, determined annually by the Commission, to compute the amount of the TRS Fund contribution for that year. Historically, contributions to the TRS Fund have been slightly less than one percent of interstate end-user revenues.

24. The rules adopted in document FCC 11-150 require non-interconnected VoIP service providers with interstate end-user revenues to also register with the Commission and designate a District of Columbia agent for service of process using FCC Form 499-A in accordance with its instructions. These providers must also complete and submit FCC Form 499-A annually to report their interstate end-user revenues. It has previously been estimated that filling out the FCC Form 499-A takes 13.5 hours (i.e., less than two work days of a single full-time employee) annually. Thus, completing and submitting FCC Form 499-A does not have a significant economic impact upon small entities.

25. Document FCC 11-150 affirms that contributions to the TRS Fund are made on the basis of interstate end-user revenues. Non-interconnected VoIP service providers that offer their services for free have no interstate end-user revenues and, therefore, no requirement to register with the Commission, designate a District of Columbia agent for service of process, complete and submit a FCC Form 499-A, or contribute any amount to the TRS Fund. Consequently, these rules will not have any economic impact on providers of free non-interconnected VoIP services.

26. TRS Fund contributions will be assessed against interstate end-user revenues from non-interconnected VoIP services provided as a stand-alone offering for a fee (not for free). TRS Fund contributions will also be assessed against the interstate end-user revenues generated from other (non-VoIP) services (e.g., a video gaming service) that have a non-interconnected VoIP service feature or function: (1) When these providers also offer the non-interconnected VoIP service on a stand-alone basis for a fee; or (2) when these providers also offer the other (non-VoIP) services without the non-interconnected VoIP service feature at a different (discounted) price. Such providers may use the safe harbor methods identified in the CPE Bundling Order for allocating and reporting revenues. See CPE Bundling Order, published at 66 FR 19393, April 16, 2001. Historically, contributions to the TRS Fund have been slightly less than one percent of revenues. The contribution factor for the 2011-2012 TRS Fund year is 1.058 percent. See Telecommunications Relay Services and Speech-to-Speech Services for Individuals With Hearing and Speech Disabilities; Structure and Practices of the Video Relay Service Program, Order, published at 76 FR 44326, July 25, 2011. This contribution rate will not have a significant economic impact upon small entities.

27. Document FCC 11-150 also affirms that service providers with interstate end-user revenues must contribute a minimum of $25 to the TRS Fund. See 47 CFR 64.604(c)(5)(iii)(B) of the Commission's rules. A $25 contribution does not constitute a significant economic impact on small entities.

28. Therefore, based on the foregoing analysis of all foreseeable economic impacts, the Commission certifies that the requirements of document FCC 11-150 will not have a significant economic impact on a substantial number of small entities.

29. The Commission will send a copy of document FCC 11-150, including a copy of the Final Regulatory Flexibility Certification, in a report to Congress pursuant to the Congressional Review Act. See 5 U.S.C. 801(a)(1)(A). In addition, document FCC 11-150 and the final certification will be sent to the Chief Counsel for Advocacy of the SBA. 5 U.S.C. 605(b).

Ordering Clauses

Pursuant to the authority contained in sections 1, 4(i), 4(j), 225, and 715 of the Communications Act of 1934, as amended, 47 U.S.C. 151, 154(i), 154(j), 225, and 616, document FCC 11-150 is adopted.

The Commission's Consumer and Governmental Affairs Bureau, Reference Information Center, SHALL SEND a copy of document FCC 11-150, including the Final Regulatory Flexibility Certification, to the Chief Counsel for Advocacy of the Small Business Administration.

List of Subjects

47 CFR Part 1

Communications common carriers, Reporting and recordkeeping requirements, Telecommunications.

47 CFR Part 64

Reporting and recordkeeping requirements, Telecommunications, Telephone.

Federal Communications Commission.
Marlene H. Dortch,
Secretary.

Final Rules

For the reasons discussed in the preamble, the Federal Communications Commission amends 47 CFR parts 1 and 64 as follows:

PART 1—PRACTICE AND PROCEDURE

1. The authority citation for part 1 continues to read as follows:

Authority: 15 U.S.C. 79 et seq.; 47 U.S.C. 151, 154(i), 154(j), 155, 157, 225, 227, 303(r), and 309.

2. In § 1.47, revise paragraph (h) to read as follows:

§ 1.47 Service of documents and proof of service.

* * * * *

(h) Every common carrier and interconnected VoIP provider, as defined in § 54.5 of this chapter, and non-interconnected VoIP provider, as defined in § 64.601(a)(15) of this chapter and with interstate end-user revenues that are subject to contribution to the Telecommunications Relay Service Fund, that is subject to the Communications Act of 1934, as amended, shall designate an agent in the District of Columbia, and may designate additional agents if it so chooses, upon whom service of all notices, process, orders, decisions, and requirements of the Commission may be made for and on behalf of such carrier, interconnected VoIP provider, or non-interconnected VoIP provider in any proceeding before the Commission. Such designation shall include, for the carrier, interconnected VoIP provider, or non-interconnected VoIP provider and its designated agents, a name, business address, telephone or voicemail number, facsimile number, and, if available, Internet e-mail address. Such carrier, interconnected VoIP provider, or non-interconnected VoIP provider shall additionally list any other names by which it is known or under which it does business, and, if the carrier, interconnected VoIP provider, or non-interconnected VoIP provider is an affiliated company, the parent, holding, or management company. Within thirty (30) days of the commencement of provision of service, such carrier, interconnected VoIP provider, or non-interconnected VoIP provider shall file such information with the Chief of the Enforcement Bureau's Market Disputes Resolution Division. Such carriers, interconnected VoIP providers, and non-interconnected VoIP providers may file a hard copy of the relevant portion of the Telecommunications Reporting Worksheet, as delineated by the Commission in the Federal Register, to satisfy this requirement. Each Telecommunications Reporting Worksheet filed annually by a common carrier, interconnected VoIP provider, or non-interconnected VoIP provider must contain a name, business address, telephone or voicemail number, facsimile number, and, if available, Internet e-mail address for its designated agents, regardless of whether such information has been revised since the previous filing. Carriers, interconnected VoIP providers, and non-interconnected VoIP providers must notify the Commission within one week of any changes in their designation information by filing revised portions of the Telecommunications Reporting Worksheet with the Chief of the Enforcement Bureau's Market Disputes Resolution Division. A paper copy of this designation list shall be maintained in the Office of the Secretary of the Commission. Service of any notice, process, orders, decisions or requirements of the Commission may be made upon such carrier, interconnected VoIP provider, or non-interconnected VoIP provider by leaving a copy thereof with such designated agent at his office or usual place of residence. If such carrier, interconnected VoIP provider, or non-interconnected VoIP provider fails to designate such an agent, service of any notice or other process in any proceeding before the Commission, or of any order, decision, or requirement of the Commission, may be made by posting such notice, process, order, requirement, or decision in the Office of the Secretary of the Commission.

PART 64—MISCELLANEOUS RULES RELATING TO COMMON CARRIERS

3. The authority citation for part 64 is revised to read as follows:

Authority: 47 U.S.C. 154, 254(k), 227; secs. 404(b)(2)(B), (c), Pub. L. 104-104, 110 Stat. 56. Interpret or apply 47 U.S.C. 201, 218, 222, 225, 226, 227, 228, 254(k), 616, and 620, unless otherwise noted.

Subpart F—Telecommunications Relay Services and Related Customer Premises Equipment for Persons With Disabilities

4. The authority citation for subpart F is revised to read as follows:

Authority: 47 U.S.C. 151-154; 225, 255, 303(r), 616, and 620.

5. In § 64.601, revise paragraph (a)(10), redesignate paragraphs (a)(15) through (a)(28) as paragraphs (a)(16) through (a)(29), and add new paragraph (a)(15) to read as follows:

§ 64.601 Definitions and provisions of general applicability.

(a) * * *

(10) Interconnected VoIP service. The term “interconnected VoIP service” has the meaning given such term under § 9.3 of title 47, Code of Federal Regulations, as such section may be amended from time to time.

* * * * *

(15) Non-interconnected VoIP service. The term “non-interconnected VoIP service”—

(i) Means a service that—

(A) Enables real-time voice communications that originate from or terminate to the user's location using Internet protocol or any successor protocol; and

(B) Requires Internet protocol compatible customer premises equipment; and

(ii) Does not include any service that is an interconnected VoIP service.

* * * * *

6. In § 64.604, revise paragraphs (c)(5)(iii)(A) and (c)(5)(iii)(B), remove paragraph (c)(5)(iii)(D), redesignate paragraph (c)(5)(iii)(C) as paragraph (c)(5)(iii)(D), and add new paragraph (c)(5)(iii)(C) to read as follows:

§ 64.604 Mandatory minimum standards.

* * * * *

(c) * * *

(5) * * *

(iii) * * *

(A) Contributions. Every carrier providing interstate telecommunications services (including interconnected VoIP service providers pursuant to § 64.601(b)) and every provider of non-interconnected VoIP service shall contribute to the TRS Fund on the basis of interstate end-user revenues as described herein. Contributions shall be made by all carriers who provide interstate services, including, but not limited to, cellular telephone and paging, mobile radio, operator services, personal communications service (PCS), access (including subscriber line charges), alternative access and special access, packet-switched, WATS, 800, 900, message telephone service (MTS), private line, telex, telegraph, video, satellite, intraLATA, international and resale services.

(B) Contribution computations. Contributors' contributions to the TRS fund shall be the product of their subject revenues for the prior calendar year and a contribution factor determined annually by the Commission. The contribution factor shall be based on the ratio between expected TRS Fund expenses to the contributors' revenues subject to contribution. In the event that contributions exceed TRS payments and administrative costs, the contribution factor for the following year will be adjusted by an appropriate amount, taking into consideration projected cost and usage changes. In the event that contributions are inadequate, the fund administrator may request authority from the Commission to borrow funds commercially, with such debt secured by future years' contributions. Each subject contributor that has revenues subject to contribution must contribute at least $25 per year. Contributors whose annual contributions total less than $1,200 must pay the entire contribution at the beginning of the contribution period. Contributors whose contributions total $1,200 or more may divide their contributions into equal monthly payments. Contributors shall complete and submit, and contributions shall be based on, a “Telecommunications Reporting Worksheet” (as published by the Commission in the Federal Register). The worksheet shall be certified to by an officer of the contributor, and subject to verification by the Commission or the administrator at the discretion of the Commission. Contributors' statements in the worksheet shall be subject to the provisions of section 220 of the Communications Act of 1934, as amended. The fund administrator may bill contributors a separate assessment for reasonable administrative expenses and interest resulting from improper filing or overdue contributions. The Chief of the Consumer and Governmental Affairs Bureau may waive, reduce, modify or eliminate contributor reporting requirements that prove unnecessary and require additional reporting requirements that the Bureau deems necessary to the sound and efficient administration of the TRS Fund.

(C) Registration Requirements for Providers of Non-Interconnected VoIP Service.

(1). Applicability. A non-interconnected VoIP service provider that will provide interstate service that generates interstate end-user revenue that is subject to contribution to the Telecommunications Relay Service Fund shall file the registration information described in paragraph (c)(5)(iii)(C)(2) of this section in accordance with the procedures described in paragraphs (c)(5)(iii)(C)(3) and (c)(5)(iii)(C)(4) of this section. Any non-interconnected VoIP service provider already providing interstate service that generates interstate end-user revenue that is subject to contribution to the Telecommunications Relay Service Fund on the effective date of these rules shall submit the relevant portion of its FCC Form 499-A in accordance with paragraphs (c)(5)(iii)(C)(2) and (3) of this section.

(2). Information required for purposes of TRS Fund contributions. A non-interconnected VoIP service provider that is subject to the registration requirement pursuant to paragraph (c)(5)(iii)(C)(1) of this section shall provide the following information:

(i) The provider's business name(s) and primary address;

(ii) The names and business addresses of the provider's chief executive officer, chairman, and president, or, in the event that a provider does not have such executives, three similarly senior-level officials of the provider;

(iii) The provider's regulatory contact and/or designated agent;

(iv) All names that the provider has used in the past; and

(v) The state(s) in which the provider provides such service.

(3). Submission of registration. A provider that is subject to the registration requirement pursuant to paragraph (c)(5)(iii)(C)(1) of this section shall submit the information described in paragraph (c)(5)(iii)(C)(2) of this section in accordance with the Instructions to FCC Form 499-A. FCC Form 499-A must be submitted under oath and penalty of perjury.

(4). Changes in information. A provider must notify the Commission of any changes to the information provided pursuant to paragraph (c)(5)(iii)(C)(2) of this section within no more than one week of the change. Providers may satisfy this requirement by filing the relevant portion of FCC Form 499-A in accordance with the Instructions to such form.

* * * * *

[FR Doc. 2011-27480 Filed 10-24-11; 8:45 am]

BILLING CODE 6712-01-P